NUCLEAR REGULATORY COMMISSION

[Docket No. 72-4]

Duke Energy Corporation; Notice of Docketing of the Materials License SNM-2503; Amendment Application for the Oconee Independent Spent Fuel Storage Installation

By letter dated October 31, 2001, Duke Energy Corporation (DEC) submitted an application to the Nuclear Regulatory Commission (NRC or Commission) in accordance with 10 CFR part 72 requesting an amendment of the Oconee independent spent fuel storage installation (ISFSI) license (SNM-2503) for the ISFSI located in Oconee County, South Carolina. DEC is seeking Commission approval to amend its license to change the ISFSI's technical specifications for environmental reporting to the NRC. DEC has requested to change the frequency for submitting an environmental report of radioactive effluent releases from semi-annually to annually, in accordance with current NRC environmental reporting requirements in 10 CFR 72.44(d).

This application was docketed under 10 CFR part 72; the ISFSI Docket No. is 72-4 and will remain the same for this action. The amendment of an ISFSI license is subject to the Commission's approval.

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of the action taken and an opportunity for interested persons to request a hearing on whether the action should be rescinded or modified.

For further details with respect to this application, see the application dated October 31, 2001, which is available for public inspection at the Commission's Public Document Room, One White Flint North Building, 11555 Rockville Pike, Rockville, MD or from the publicly available records component of NRC's Agencywide Documents Access and Management System (ADAMS) under Accession No. ML020230028. The NRC maintains ADAMS, which provides text and image files of NRC's public documents. These documents may be accessed through the NRC's Public Electronic Reading Room on the Internet at http://www.nrc.gov/reading-rm.html. If you do not have access to ADAMS or if there are problems in accessing the documents located in ADAMS, contact the NRC Public Document Room (PDR) Reference staff at 1-800-397-4209, 301-415-4737 or by e-mail to pdr@nrc.gov.

Dated at Rockville, Maryland, this 12th day of March 2002.
For the Nuclear Regulatory Commission.
E. William Brach,
Director, Spent Fuel Project Office, Office of Nuclear Material Safety, and Safeguards.

[FR Doc. 02-6992 Filed 3-21-02; 8:45 am]

BILLING CODE 7590-01-P